DEPARTMENT OF HOUSING AND URBAN DEVELOPMENT

[Docket No. FR-7104-N-03]

60-Day Notice of Proposed Information Collection: Choice Neighborhoods Post-Award; OMB Control No.: 2577-0269

AGENCY: Office of the Assistant Secretary for Public and Indian Housing (PIH), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments are due: July 21, 2025

ADDRESSES: Interested persons are invited to submit comments regarding this proposal.

Written comments and recommendations for the proposed information collection can be posted within 60 days of publication of this notice on www.regulations.gov by searching the Docket Number of this notice and following the prompts. Interested persons are also invited to submit comments and recommendations regarding via post. Comments and recommendations should be postmarked within 60 days of the publication of this notice, refer to the proposal by name and/or OMB Approval Number (located at the top of this notice), and be sent to: Dawn Martin, Clearance Officer, Department of Housing and Urban Development, 451 7th Street SW, Room 3180, Washington, DC 20410.

FOR FURTHER INFORMATION CONTACT: Dawn Martin, Clearance Officer, Department of Housing and Urban Development, 451 7th Street SW, Washington, DC 20410; email dawn.e.martin@hud.gov; telephone number (202) 402-6488. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Martin.

SUPPLEMENTARY INFORMATION: This notice informs the public that HUD is seeking approval from OMB for the information collection described in Section A.

A. Overview of Information Collection

Information collection | Number of respondents | Frequency of response | Responses per annum | Burden hour per response | Annual burden hours | Hourly cost per response | Annual cost
Implementation grantees on-line quarterly reporting (CN Inform) (Quarterly) | 37 | 4 | 148 | 6 | 888 | $50.44 | $44,790.72
Implementation Grant Budget Form (HUD-53236) (Twice per year) | 37 | 2 | 74 | 1.25 | 92.5 | 50.44 | 4,665.70
Planning grantees quarterly (reporting (Quarterly) | 27 | 4 | 108 | 1.25 | 135 | 50.44 | 6,809.40
Planning Grant Budget Form (HUD-53421) | 27 | 1 | 27 | 1 | 27 | 50.44 | 1,361.88
Actual Cost Certificate (HUD-50163) closeout | 15 | 1 | 15 | 1 | 15 | 50.44 | 756.60
Voucher payments using eLOCCS (once per month) (OMB Approval No. 2535-0102) | 64 | 12 | 768 | 0 | 0 | 0 | 0
Total | 207 |  | 1,140 |  | 1,157.5 |  | 58,384.30

Title of Information Collection: Choice Neighborhoods Post-Award.

OMB Approval Number: 2577-0269.

Type of Request: Revision of currently approved collection.

Form Number: HUD-50163, HUD-53236, HUD-53421.

Description of the need for the information and proposed use: The information is required to allow HUD to manage Choice Neighborhoods grant awards in accordance with applicable statute and regulations.

Respondents: Choice Neighborhoods grantees.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

C. Authority

Section 2 of the Paperwork Reduction Act of 1995, 44 U.S.C. 3507.

Laura Kunkel,
Acting Director, Office of Policy, Program and Legislative Initiatives.

[FR Doc. 2025-09124 Filed 5-20-25; 8:45 am]

BILLING CODE 4210-67-P